DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before August 16, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-029-C.

Petitioner: Left Fork Mining Company, Inc., P.O. Box 405, Arjay, Kentucky 40902.

Mine: Straight Creek No. 1 Mine, MSHA I.D. No. 15-12564, located in Bell County, Kentucky.

Regulation Affected: 30 CFR 75.507-1(a) (Electric equipment other than power-connection points; outby the last open crosscut; return air; permissibility requirements). Modification Request: The petitioner requests a modification of the existing standard to permit an increase in the maximum length of trailing cables supplying power to permissible pumps at the mine. The petitioner states that: (1) This petition will apply only to trailing cables supplying three-phase, 480-volt power for permissible pumps; (2) the maximum length of the 480-volt power for permissible pumps will be 2800 feet; (3) the 480-volt power for permissible pump trailing cables will not be smaller than #10 American Wire Gauge (AWG); (4) all circuit breakers used to protect trailing cables exceeding the pump approval length or Table 9 of 30 CFR Part 18 will have an instantaneous trip unit calibrated to trip at 70 percent of phase-to-phase short-circuit current. The trip setting of these circuit breakers will be sealed or locked, and these circuit breakers will have permanent, legible labels. Each label will identify the circuit breaker as being suitable for protecting the trailing cables. This label will be maintained legible. In instances where a 70 percent instantaneous set point will not allow a pump to start, due to motor inrush, a thermal magnetic breaker will be furnished. The thermal rating of the circuit breaker will be no greater than 70 percent of the available short-circuit current and the instantaneous setting will be adjusted to one setting above the motor inrush trip point. This setting will also be sealed or locked; (4) replacement of instantaneous trip units, used to protect pump trailing cables exceeding required lengths of cables, will be calibrated to trip at 70 percent of the available phase-to-phase short-circuit current and this setting will be sealed or locked; (5) permanent warning labels will be installed and maintained on the covers of the power center to identify the location of each sealed or locked short-circuit protection device. These labels will warn miners not to change or alter these short-circuit settings; (6) all future pump installations with excessive cable lengths will have a short-circuit survey conducted and items 1-6 will be implemented. A copy of each pumps short-circuit survey will be available at the mine site for inspection. The petitioner asserts that the proposed alternative method will at all times guarantee no less than the same measure of protection to all miners than is provided by the existing standard.

Docket Number: M-2010-030-C.

Petitioner: Rosebud Mining Company, 301 Market Street, Kittanning, Pennsylvania 16201.

Mine: Beaver Valley Mine, MSHA I.D. No. 36-08725, located in Beaver County, Pennsylvania, and Cherry Tree Mine, MSHA I.D. No. 36-09224, located in Indiana County, Pennsylvania.

Regulation Affected: 30 CFR 75.1101-1(b) (Deluge-type water spray systems).

Modification Request: The petitioner requests a modification of the existing standard to permit blow-off dust covers to be removed from the full cone, corrosion resistant open nozzles used on the deluge-type water spray systems. The petitioner states that: (1) Once every 7 days, a person trained in the testing procedures specific to the water deluge-type fire suppression systems utilized at each belt drive will: (a) Conduct a visual examination of each of the water deluge-type fire suppression systems; (b) conduct a function test of the water deluge-type fire suppression systems by actuating the system and observing its performance; and (c) record the results of the examination and functional test, and record any malfunction or clogged nozzle detected in a book maintained on the surface for that purpose. The record will be made available to the authorized representative of the Secretary and retained at the mine for one year; (2) any malfunction or clogged nozzle detected as a result of the weekly examination or functional test will be corrected immediately; (3) the procedure used to perform the functional test will be posted at or near each belt drive that utilizes a water deluge-type fire suppression system; and (4) within 60 days after the Proposed Decision and Order becomes final, the petitioner will submit proposed revisions for its approved 30 CFR Part 48 training plan to the District Manager. These proposed revisions will specify the procedure used to conduct the weekly functional test and initial and refresher training regarding the conditions specified by the Proposed Decision and Order. The petitioner further states that the procedures specified in 30 CFR 48.3 for approval of proposed revisions to already approved training plans will apply. The petitioner asserts that the proposed alternative method will guarantee the miners no less than the same measure of protection afforded the miners by such standard with no diminution of safety.

Dated: July 12, 2010.
Patricia W. Silvey,
Director, Office of Standards, Regulations and Variances.

[FR Doc. 2010-17323 Filed 7-15-10; 8:45 am]

BILLING CODE 4510-43-P